DEPARTMENT OF THE INTERIOR

Bureau of Land Management

[OR-030-1020-XX-028H; HAG 05-0049]

Teleconference Meeting Notice for the John Day/Snake Resource Advisory Council

AGENCY: Bureau of Land Management (BLM), Vale District, Interior.

ACTION: Teleconference meeting notice for the John Day/Snake Resource Advisory Council.

SUMMARY: The John Day/Snake Resource Advisory Council (JDSRAC) will conduct a public meeting by teleconference on Wednesday, February 23, 2005, from 7 to 8:30 p.m. Pacific Time. The meeting is open to the public; however, teleconference lines are limited. Please call or contact Peggy Diegan at the Vale District Office, 100 Oregon Street, Vale, OR 97918, (541) 473-3144, to obtain the dial-in number. During the teleconference, the JDSRAC will discuss comments prepared by the OR/WA BLM in response to the Oregon State Draft Sage Grouse Plan and decide whether the RAC has additional comments.

FOR FURTHER INFORMATION CONTACT: Any member of the public wishing further information concerning the meeting or who wishes to submit oral or written comments should contact Debbie Lyons at the above address (541) 473-6218 or e-mail Debra_Lyons@or.blm.gov. Comments must be in writing to Debbie Lyons by February 16, 2005. For teleconference call meetings, opportunities for oral comment will be limited to no more than five minutes per speaker and no more than fifteen minutes total.

Dated: January 14, 2005.
David R. Henderson,
District Manager.

[FR Doc. 05-1214 Filed 1-21-05; 8:45 am]

BILLING CODE 4310-33-P